NATIONAL AERONAUTICS AND SPACE ADMINISTRATION

[Notice: (17-063)]

Aerospace Safety Advisory Panel; Charter Renewal

AGENCY: National Aeronautics and Space Administration (NASA).

ACTION: Notice of renewal of charter of the Aerospace Safety Advisory Panel.

SUMMARY: Pursuant to sections 14(b)(1) and 9(c) of the Federal Advisory Committee Act (Pub. L. 92-463), and after consultation with the Committee Management Secretariat, U.S. General Services Administration, the NASA Acting Administrator has determined that renewal of the Aerospace Safety Advisory Panel (ASAP) is in the public interest in connection with the performance of duties imposed on NASA by law. The renewed charter is for a two-year period ending on August 15, 2019.

FOR FURTHER INFORMATION CONTACT: Ms. Carol Hamilton, Designated Federal Officer, Office of International and Interagency Relations, NASA Headquarters, Washington, DC 20546; phone (202) 358-1857; email carol.j.hamilton@nasa.gov.

Patricia D. Rausch,
Advisory Committee Management Officer, National Aeronautics and Space Administration.

[FR Doc. 2017-19406 Filed 9-12-17; 8:45 am]

BILLING CODE 7510-13-P